DEPARTMENT OF AGRICULTURE

Animal and Plant Health Inspection Service

[Docket No. APHIS-2008-0110]

Multi-Agency Informational Meeting Concerning Compliance With the Federal Select Agent Program; Public Meeting

AGENCY: Animal and Plant Health Inspection Service, USDA.

ACTION: Notice of public meeting.

SUMMARY: This is to notify all interested parties, including individuals and entities possessing, using, or transferring biological agents and toxins listed in 7 CFR 331.3, 9 CFR 121.3, or 42 CFR 73.3, that a meeting will be held to provide specific regulatory guidance related to the Federal Select Agent Program established under the Public Health Security and Bioterrorism Preparedness and Response Act of 2002. The meeting is being organized by the U.S. Department of Agriculture's Animal and Plant Health Inspection Service, the Department of Health and Human Services' Centers for Disease Control and Prevention, and the Department of Justice's Federal Bureau of Investigation. Issues to be discussed include entity registration, security risk assessments, biosafety requirements, and security measures.

DATES: The meeting will be held on Tuesday, December 9, 2008, from 8 a.m. to 5 p.m.

ADDRESSES: The public meeting will be held at the USDA Center at Riverside, 4700 River Road, Riverdale, MD 20737.

FOR FURTHER INFORMATION CONTACT: For more information, please contact the Agricultural Select Agent Program by telephone at (301) 734-5960 or by e-mail to Agricultural.Select.Agent.Program@aphis.usda.gov.

SUPPLEMENTARY INFORMATION: On June 12, 2002, the President signed into law the Public Health Security and Bioterrorism Preparedness and Response Act of 2002. Title II of the Act, “Enhancing Controls on Dangerous Biological Agents and Toxins” (sections 201 through 231), provides for the regulation of certain biological agents and toxins by the Department of Health and Human Services (subtitle A, sections 201-204) and the Department of Agriculture (subtitle B, sections 211-213), and provides for interagency coordination between the two departments regarding overlap agents and toxins (subtitle C, section 221). For the Department of Health and Human Services, the Centers for Disease Control and Prevention (CDC) has been designated as the agency with primary responsibility for implementing the provisions of the Act; the Animal and Plant Health Inspection Service (APHIS) is the agency fulfilling that role for the Department of Agriculture. CDC and APHIS list select agents and toxins in 42 CFR 73.3 and in 7 CFR 331.3 and 9 CFR 121.3, respectively. The Federal Bureau of Investigation's (FBI) Criminal Justice Information Service conducts security risk assessments of all individuals and nongovernmental entities that request to possess, use, or transfer select agents and toxins.

The meeting announced here is an opportunity for the regulated community (i.e., registered entity responsible officials, alternate responsible officials, and entity owners) and other interested individuals to obtain specific regulatory guidance and information on standards concerning biosafety and biosecurity issues related to the Federal Select Agent Program. Representatives from CDC, APHIS, and the FBI will be present at the meeting to address questions and concerns. Entity registration, security risk assessments, biosafety requirements, and security measures are among the issues that will be discussed.

All attendees must register in advance of the meeting. For those unable to attend in person, the meeting will be available at no cost as a Webcast over the Internet for a limited number of registrants. Registration forms may be downloaded from the National Select Agent Registry's Web site at http://www.selectagents.gov; by request via telephone to (301) 734-5960; or by request via e-mail to Agricultural.Select.Agent.Program@aphis.usda.gov.

Travel directions to the USDA Center at Riverside are available on the Internet at http://www.aphis.usda.gov/plant_health/general_info/directions_riverdale.shtml. Picture identification is required to gain access to the building. Parking is available next to the building for a $2.25 fee (please have quarters or crisp bills available for machine). The nearest Metro station is the College Park station on the Green Line, which is within walking distance.

If you require special accommodations, such as a sign language interpreter, please see the contact information listed under FOR FURTHER INFORMATION CONTACT.

Done in Washington, DC, this 30th day of October 2008.
Kevin Shea,
Acting Administrator, Animal and Plant Health Inspection Service.

[FR Doc. E8-26387 Filed 11-4-08; 8:45 am]

BILLING CODE 3410-34-P